DEPARTMENT OF TRANSPORTATION

Coast Guard

Maritime Administration

[USCG-2002-14134]

Port Pelican LLC Deepwater Port License Application

AGENCY: Coast Guard and Maritime Administration, DOT.

ACTION: Notice of application.

SUMMARY: The Coast Guard and the Maritime Administration (MARAD) give notice, as required by the Deepwater Port Act of 1974, as amended, that they have received an application for the licensing of a deepwater port, and that the application appears to contain the required information. The notice summarizes the applicant's plans and the procedures we will follow in considering the application.

DATES: Any public hearing held in connection with this application must be held not later than August 25, 2003. The application will be approved or denied within 90 days after the last public hearing held on the application.

ADDRESSES: The mailing address for the clerk in this proceeding is: Commandant (G-M), U.S. Coast Guard, 2100 Second Street SW., Washington DC 20593-0001. Public docket USCG-2002-14134 is maintained by the Docket Management Facility, U.S. Department of Transportation, Room PL-401, 400 Seventh Street SW., Washington, DC 20590-0001. The Docket Management Facility office maintains a Web site, http://dms.dot.gov, and can be reached by telephone at 202-366-9329 or fax at 202-493-2251.

FOR FURTHER INFORMATION CONTACT: If you have questions on this notice call Robert Nelson, U.S. Coast Guard, (202) 267-0496, rnelson@comdt.uscg.mil.

SUPPLEMENTARY INFORMATION: Receipt of application; determination. On November 25, 2002, the Coast Guard and MARAD received an application from Port Pelican LLC, Suite 2700, 1111 Bagby, Houston, Texas 77002 for all Federal authorizations required for a license to own, construct and operate a deepwater port off the coast of Louisiana. On December 16, 2002, we determined that the application appears to contain all required information. The application and related documentation supplied by the applicant (except for certain protected information specified in 33 U.S.C. 1513) may be viewed in the public docket (see ADDRESSES).

Background. According to the Deepwater Port Act of 1974, as amended (the Act, 33 U.S.C. 1501 et seq.), a deepwater port is a fixed or floating manmade structure other than a vessel, or a group of structures, located beyond the territorial sea and off the coast of the U.S., used or intended for use as a port or terminal for the transportation, storage, and further handling of oil for transportation to any State. The Act was most recently amended by the Maritime Transportation Security Act of 2002 (MTSA, Public Law 107-295), which extends the deepwater port definition to include natural gas facilities .

The Deepwater ports must be licensed, and the Act provides that a license applicant submit detailed plans for its facility to the Secretary of Transportation, along with its application. The Secretary has delegated the processing of deepwater port applications to the Coast Guard and MARAD. The Act allows 21 days following receipt of the application to determine if it contains all required information. If it does, we must publish a notice of application in the Federal Register and summarize the plans. This notice is intended to meet those requirements of the Act and to provide general information about the procedure that will be followed in considering the application.

Application procedure. We consider the application on its merits. Under the Act, we have 240 days from the date this notice is published to hold at least one public hearing, which is your opportunity to submit written or oral comment on the application. We will publish a separate Federal Register notice to notify you of any hearing we decide to hold. At least one hearing must be held in each adjacent coastal state. Pursuant to 33 U.S.C. 1508, we designate Louisiana as an adjacent coastal state. Other states may apply for adjacent coastal state status in accordance with 33 U.S.C. 1508(a)(2). After the last public hearing, Federal agencies have 45 days in which to comment to us on the application, and approval or denial of the application must follow within 90 days after the last public hearing. Details of the application process are described in 33 U.S.C. 1504 and in 33 CFR part 148.

The present application involves a proposed liquefied natural gas (LNG) facility. As such, MTSA excepts the application from the restrictions of 33 U.S.C. 1504(d) (1)-(3) and 33 U.S.C. 1504(i) (1)-(3). While this permits submission and consideration of competing applications for the same “application area”, there may still be practical restrictions from a navigation safety standpoint with regard to the proximity of multiple deepwater ports.

We will review the application under the current deepwater port regulations published in 33 CFR part 148. On May 30, 2002 (67 FR 37920) the Coast Guard published a Notice of Proposed Rulemaking (NPRM) indicating its intent to revise those regulations. Public comments have been received in response to the NPRM and we will consider those comments prior to adopting revised regulations. In addition, MTSA mandates that we revise existing deepwater port regulations as soon as practicable to implement extension of deepwater port regulations to natural gas. It also allows for the issuance of an interim final rule without public notice and comment. Thus, the current regulations may be amended before we have fully processed the application. In that event, the amended regulations will govern further processing of the application as soon as they take effect.

Summary of the application. The application plan calls for construction of the Port Pelican Deepwater Port and associated anchorage in an area situated in the Gulf of Mexico approximately 36 miles south southwest of Fresh Water City, Louisiana, in Vermilion Block 140 with a safety zone extending into part of Vermilion Block 139.

The Port Pelican Project (the Project) will deliver natural gas to the United States Gulf Coast using existing gas supply and gathering systems in the Gulf of Mexico and southern Louisiana. Gas will then be delivered to shippers using the national pipeline grid through interconnections with major interstate and intrastate pipelines.

The Project consists of the Port Pelican Terminal (the Terminal), an LNG receiving, storage and regasification facility and the Pelican Interconnector Pipeline (PIPL) to transport the gas to the existing offshore gas gathering system.

The Project will consist of two concrete gravity based structure (GBS) units fixed to the seabed, which will include integral LNG storage tanks, support deck mounted LNG receiving and vaporization equipment and utilities, berthing accommodations for LNG carriers, facilities for delivery of natural gas to a pipeline transportation system, and personnel accommodations.

The Terminal will be able to receive the largest LNG carriers in service or on order in 2002. LNG carrier arrival frequency will be planned to match specified terminal gas delivery rates. All marine systems, communication, navigation aids and equipment necessary to conduct safe LNG carrier operations and receiving of product during specified atmospheric and sea states will be provided at the port.

The regasification process consists of lifting the LNG from storage tanks, pumping the cold liquid to pipeline pressure, vaporization across heat exchanging equipment and delivery through custody transfer metering to the gas pipeline network. No gas conditioning is required for the Terminal since the incoming LNG will be pipeline quality.

A 42-inch diameter offshore Pelican Interconnector Pipeline, 37 nautical miles in length, will be constructed as part of the Pelican Project. The PIPL will transport gas from the Terminal to a point near the Tiger Shoal Platform “A” where it will connect to the Henry-Floodway Gas Gathering System (HFGGS). The HFGGS will deliver the gas to the onshore U.S. gas pipeline network.

The Terminal will be constructed in two phases. Phase I includes the installation of two GBS units with internal storage tanks and facilities for LNG offloading, and vaporization capability to deliver a peal 1.0 billion standard cubic feet per day (SCFD) of natural gas to the pipeline system. Additional vaporization equipment and associated support equipment and facilities will be installed during Phase II to increase the facility vaporization and send out rate to 2.0 billion SCFD peak.

Dated: December 20, 2002.
Paul J. Pluta,
Rerad Admiral, U.S. Coast Guard, Assistant Commandant for Marine Safety, Security and Environmental Protection.
Raymond R. Barberesi,
Director, Office of Ports and Domestic Shipping, U.S. Maritime Administration.

[FR Doc. 02-32831 Filed 12-24-02; 11:04 am]

BILLING CODE 4910-15-P